DEPARTMENT OF ENERGY

Federal Energy Regulatory Commission

[Docket No. CP02-204-000]

Transcontinental Gas Pipe Line Corporation; Notice of Application

May 10, 2002.

Take notice that on May 6, 2002, Transcontinental Gas Pipe Line Corporation (Transco), P.O. Box 1396, Houston, Texas 77251-1396, filed in Docket No. CP02-204-000, an application pursuant to wection 7(c) of the Natural Gas Act (NGA) for certificates of public convenience and necessity, all as more fully set forth in the application which is on file with the Commission and open to public inspection. Copies of this filing are on file with the Commission and are available for public inspection. This filing may also be viewed on the Web at http://www.ferc.gov using the “RIMS” link, select “Docket #” and follow the instructions (call 202-208-2222 for assistance).

Transco states that the requested certificates of public convenience and necessity are for: (1) Authorizing Transco to construct and operate pipeline looping facilities on its existing Trenton Woodbury Line which will enable Transco to add, under existing firm transportation service agreements, certain points of delivery located on the Trenton Woodbury Line for two existing firm transportation customers (Trenton Woodbury Expansion); (2) approving an initial reservation rate surcharge for the costs associated with the Trenton Woodbury Expansion, and (3) authorizing Transco to construct and operate a new delivery lateral (including a meter station) from a point of interconnection with the Trenton Woodbury Line to a power generation plant being constructed on behalf of Fairless Energy in Bucks County, Pennsylvania (Fairless Delivery Lateral).

Transco states that the Trenton Woodbury Expansion will involve the construction and operation of new pipeline looping facilities on Transco's existing Trenton Woodbury Line thus enabling Transco to provide delivery flexibility for two shippers, PECO Energy Company (PECO) and Virginia Power Energy Marketing, Inc. (VAPEM), under existing Rate Schedule FT contracts to delivery points located on the Trenton Woodbury Line. Transco states that the Fairless Delivery Lateral will involve the construction and operation of a new delivery lateral (including a new meter station and appurtenant facilities) from Transco's Trenton Woodbury Line to a new power plant being constructed on behalf of Fairless Energy in Bucks County, Pennsylvania.

Transco states that in order to recover the costs of the Trenton Woodbury Expansion facilities, Transco requests approval of an initial reservation rate surcharge applicable to the transportation contract quantities under existing Rate Schedule FT Service Agreements with PECO and VAPEM. According to Transco, the costs to construct the Fairless Delivery Lateral will be funded entirely by the developers of the Fairless Energy power plant through advance reimbursement to Transco. The proposed in-service dates of the Trenton Woodbury Expansion and Fairless Delivery Lateral are November 1, 2003 and August 1, 2003, respectively.

Transco states that the Trenton Woodbury Expansion will include approximately 7.17 miles of 36-inch diameter pipeline loop and appurtenant facilities from milepost 8.23 to milepost 15.40 on Transco's existing Trenton Woodbury Line in Mercer and Burlington Counties, New Jersey. Transco estimates that the proposed Trenton Woodbury Expansion facilities will cost approximately $19.6 million and will place these facilities into service on November 1, 2003.

Transco states that the Fairless Delivery Lateral will include approximately 2.48 miles of 24-inch diameter pipeline from a tap located near milepost 17.46 on Transco's Trenton Woodbury Line in Burlington County, New Jersey, to a point of interconnection with the Fairless Energy power generation plant in Bucks County, Pennsylvania, including a meter station and appurtenant facilities. Transco estimates that the proposed Fairless Delivery Lateral will cost approximately $13 million and will place these facilities into service on August 1, 2003.

Transco states that it conducted an open season for the Trenton Woodbury Expansion in February 2001 and, as a result, Transco executed precedent agreements with PECO and VAPEM for the incremental firm transportation capacity to be created on Transco's Trenton Woodbury Line under the expansion.

Any questions concerning this application may be directed to Gina L. Johnson, Transcontinental Gas Pipe Line Corporation, P. O. Box 1396, Houston, Texas 77251-1396, call (713) 215-4243 or fax (713) 215-2229. Transco has also established a toll-free telephone number (1-866-857-7094) for parties to call with questions.

There are two ways to become involved in the Commission's review of this project. First, any person wishing to obtain legal status by becoming a party to the proceedings for this project should, on or before May 31, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-12191 Filed 5-15-02; 8:45 am]

BILLING CODE 6717-01-P